DEPARTMENT OF ENERGY

Federal Energy Regulatory Commission

[Project No. 2550-030]

Wiscons8, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 2550.

c. Date Filed: November 29, 2024.

d. Applicant: Wiscons8, LLC.

e. Name of Project: Weyauwega Hydroelectric Project (project).

f. Location: On the Waupaca River in the City of Weyauwega in Waupaca County, Wisconsin.

g. Filed Pursuant to: Federal Power Act, 16 U.S.C. 791(a)-825(r).

h. Applicant Contact: Mr. Dwight Shanak, Manager, Wiscons8, LLC, N3311 Sunrise Lane, Waupaca, Wisconsin 54981; telephone at (715) 412-3150; email at modernhydro@sbcglobal.net.

i. FERC Contact: Taconya D. Goar, Project Coordinator, Great Lakes Branch, Division of Hydropower Licensing; telephone at (202) 502-8394; email at Taconya.Goar@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 28, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Weyauwega Hydroelectric Project (P-2550-030).

m. The application is not ready for environmental analysis at this time.

n. Project Description: The existing project consists of a 240-foot-long dam that includes: (1) a 90-foot-long earth section faced with steel sheet piling; (2) a 50-foot-long concrete section with three 12-foot-long Tainter gates with a crest elevation of 771.28 National Geodetic Vertical Datum of 1929 (NGVD 29) when fully open; (3) a 29-foot-long, 56-foot-wide powerhouse that includes an intake structure and a 210-kilowatt vertical Francis turbine-generator; and (4) a 71-foot-long earth section faced with steel sheet piling.

The dam creates an impoundment with a surface area of 253 acres at a normal pool elevation of 770.2 feet NGVD 29. From the impoundment, water flows through the powerhouse to a tailrace that empties into the Waupaca River. The generator is connected to the regional electric grid by a 4.16-kilovolt (kV) underground generator lead line and a step-up transformer.

Project recreation facilities include a hand-carry boat portage route and a hand-carry boat put-in site approximately 150 feet downstream of the dam.

The current license requires the licensee to operate the project in a run-of-river mode, such that outflow from the project approximates inflow and the surface elevation of the impoundment is maintained between 769.95 and 770.45 feet NGVD 29. The minimum and maximum hydraulic capacities of the powerhouse are 35 and 229 cfs, respectively. The average annual generation of the project was 1,385 megawatt-hours from 2017 through 2023.

Wiscons8 proposes to: (1) continue operating the project in a run-of-river mode and maintaining the impoundment elevation between 769.95 and 770.45 feet NGVD 29; (2) replace the existing turbine runner (“from a Leffel 36z to a Leffel 36s”) to improve turbine hydraulic efficiency; (3) install a new programmable logic controller to ensure compliance with run-of-river operation, including automation of the Tainter gates when inflow is greater than the 229-cfs maximum hydraulic capacity of the turbine; and (4) continue maintaining the project recreation facilities.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2550). For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

q. Procedural Schedule: The application will be processed according to the following preliminary schedule. Revisions to the schedule will be made as appropriate.

Issue Deficiency Letter and Request Additional Information: January 2025.

Issue Notice of Application Accepted for Filing: May 2025.

Issue Scoping Document 1 for comments: May 2025.

Request Additional Information (if necessary): May 2025.

Issue Scoping Document 2: June 2025.

Issue Notice of Ready for Environmental Analysis: June 2025.

r. Final amendments to the application must be filed with the Commission no later than 30 days from the issuance date of the notice of ready for environmental analysis.

Dated: December 12, 2024.
Debbie-Anne A. Reese,
Secretary.

[FR Doc. 2024-30055 Filed 12-18-24; 8:45 am]

BILLING CODE 6717-01-P